DEPARTMENT OF ENERGY

Federal Energy Regulatory Commission

[Docket Nos. CP98-133-005, CP98-134-005, CP98-135-004]

Vector Pipeline, L.P.; Notice of Proposed Changes in FERC Gas Tariff

October 12, 2000.

Take notice that on September 29, 2000, Vector Pipeline L.P. (Vector), tendered for filing as its FERC Gas Tariff, Volume No. 1, to become effective November 1, 2000. Vector states that the purpose of this filing is to comply with the Commission's orders issued October 19, 1998 and May 27, 1999 in Docket Nos. CP98-133-000, et seq. and to include in its effective tariff certain new and/or modified provisions as a result of a reexamination of the 1997 pro forma tariff and discussions with its shippers. Vector requests any and all waivers of the Commission's regulations that may be required to place the proposed tariff into effect.

Vector states that its proposed tariff is in compliance with prior Commission orders, revised Commission policies, and the currently effective Commission regulations. With respect to compliance with the requirements of Order Nos. 637, et seq., Vector states that it has included in the filed tariff sheets those provisions which are permitted and/or dictated by Order Nos. 637, et seq. for immediate effect.

Vector states that the rates and charges for service under Rate Schedule FT-1 (firm transportation service) and Rate Schedule IT-1 (interruptible transportation service) are the same as those included in the certificate amendment filing made by Vector in Docket Nos. CP98-133-004 and CP98-134-003 on June 27, 2000. The explanation for the zone rates provided in the certificate amendment filing is incorporated herein by reference. Rates for firm and interruptible service are set by zone, with Zone 1 representing service from Milepost 0 to Milepost 43, and Zone 2 representing service from Milepost 0 to Milepost 333. Also, Vector has allocated $1 million of fixed costs to interruptible and system management services, and thus Vector plans to retain all revenues from these services.

Vector states that it proposes to recover fuel consumed in operations and lost and unaccounted for gas through contributions in-kind from the shippers, adjusted monthly for actuals, and charged on an 111-mile increment basis.

Vector states, that as mandated by Order No. 637, the price cap for short-term capacity release has been removed. In addition, Vector will issue a contract to a Replacement Shipper within one hour of awarding the capacity, however contract execution is not necessary for a Replacement Shipper to nominate volumes for transportation under its new capacity allocation.

Vector requests waiver of the requirements of Sections 284.286 and 284.287 to allow the incidental purchases and sales of gas without the need to file tariff sheets providing for such incidental purchases and sales.

Any person desiring to be heard or to protest this filing should file a motion to intervene or protest with the Federal Energy Regulatory Commission, Washington, DC 20426, in accordance with Sections 385.214 and 385.211 of the Commission's Rules and Regulations. All such motions or protests must be filed on or before October 19, 2000. Protests will be considered by the Commission in determining the appropriate action to be taken, but will not serve to make protestants parties to the proceeding. Any person wishing to become a party must file a motion to intervene. Copies of this filing are on file with the Commission and are available for public inspection in the Public Reference Room.

David P. Boergers,
Secretary.

[FR Doc. 00-26694 Filed 10-17-00; 8:45 am]

BILLING CODE 6717-01-M